DEPARTMENT OF VETERANS AFFAIRS

Advisory Committee on Minority Veterans, Notice of Meeting

The Department of Veterans Affairs (VA) gives notice under the Public Law 92-463 (Federal Advisory Committee Act) that the Advisory Committee on Minority Veterans will meet on October 28-30, 2014, at the Department of Veterans Affairs, 810 Vermont Avenue NW., Washington, DC. On October 28-29, the sessions will be in room 230 from 8:00 a.m. until 5:00 p.m. and on October 30 in room 230 from 8:00 a.m. until 1:00 p.m. This meeting is open to the public.

The purposes of the Committee are to: advise the Secretary on the administration of VA benefits and services to minority Veterans; assess the needs of minority Veterans; and evaluate whether VA compensation, medical and rehabilitation services, outreach, and other programs are meeting those needs. The Committee makes recommendations to the Secretary regarding such activities.

On October 28, the Committee will receive briefings and updates from the Center for Minority Veterans, Mental Health Services, Office of Health Equity, Office of Rural Health, Office of Tribal Government Relations (OTGR), Legislative Affairs Service, and Veterans Benefits Administration. On October 29, the Committee will receive briefings and updates on the National Cemetery Administration (NCA), Veteran Employment Services Office, Office of Diversity and Inclusion, Office of Policy and Planning, Veterans Health Administration (VHA), and Homeless Programs. On October 30, the Committee will receive a briefing and update on Vet Centers, Ex-Officios Update and hold an exit briefing with VBA, VHA and NCA. The Committee will receive public comments from 10:00 a.m. to 10:15 a.m. After public comments, the Committee will continue to work on their report.

A sign-in sheet for those who want to give comments will be available at the meeting. Individuals who speak are invited to submit a 1-2 page summaries of their comments at the time of the meeting for inclusion in the official meeting record. Members of the public may also submit written statements for the Committee's review to Ms. Juanita Mullen or Mr. Guillermo Muguerza Lopez, Department of Veterans Affairs, Center for Minority Veterans (00M), 810 Vermont Avenue NW., Washington, DC 20420, or email at Juanita.mullen@va.gov or Guillermo.Muguerzalopez@va.gov. Because the meeting will be in a Government building, anyone attending must be prepared to show a valid photo ID for checking in. Please allow 15 minutes before the meeting begins for this process. Any member of the public wishing to attend or seeking additional information should contact Ms. Mullen or Mr. Muguerza Lopez at (202) 461-6191 or by fax at (202) 273-7092.

Dated: October 7, 2014.
Jelessa Burney,
Federal Advisory Committee Management Officer.

[FR Doc. 2014-24285 Filed 10-10-14; 8:45 am]

BILLING CODE P